ENVIRONMENTAL PROTECTION AGENCY

40 CFR Part 52

[EPA-R10-OAR-2014-0906; FRL-9922-65-Region 10]

Approval and Promulgation of Air Quality Implementation Plans; Idaho; Update to Materials Incorporated by Reference

AGENCY: Environmental Protection Agency (EPA).

ACTION: Final rule; administrative change.

SUMMARY: The Environmental Protection Agency (EPA) is updating the materials that are incorporated by reference (IBR) into the Idaho State Implementation Plan (SIP). The regulations affected by this update have been previously submitted by the Idaho Department of Environmental Quality and approved by the EPA. In this action, the EPA is also notifying the public of corrections to typographical errors and minor formatting changes to the IBR tables. This update affects the SIP materials that are available for public inspection at the National Archives and Records Administration (NARA), the Air and Radiation Docket and Information Center located at the EPA's Headquarters in Washington, DC, and the EPA Regional Office.

DATES: This action is effective April 1, 2015.

ADDRESSES: SIP materials which are incorporated by reference into 40 CFR part 52 are available for inspection at the following locations: EPA Region 10, Office of Air, Waste, and Toxics (AWT-150), 1200 Sixth Avenue, Suite 900, Seattle, Washington 98101; the Air and Radiation Docket and Information Center, U.S. Environmental Protection Agency, 1301 Constitution Avenue NW., Room Number 3334, EPA West Building, Washington, DC 20460; or the National Archives and Records Administration (NARA). For information on the availability of this material at NARA, call 202-741-6030, or go to: http://www.archives.gov/federal_register/code_of_federal_regulations/ibr_locations.html.

FOR FURTHER INFORMATION CONTACT: Donna Deneen, EPA Region 10, Office of Air, Waste, and Toxics (AWT-150), 1200 Sixth Avenue, Seattle, Washington 98101, or at (206) 553-6706.

SUPPLEMENTARY INFORMATION:

I. Background

The SIP is a living document which a state revises as necessary to address its unique air pollution problems. Therefore, the EPA, from time to time, must take action on SIP revisions containing new and/or revised regulations as being part of the SIP. On May 22, 1997 (62 FR 27968), the EPA revised the procedures for incorporating by reference Federally-approved SIPs, as a result of consultations between the EPA and the Office of the Federal Register (OFR). The description of the revised SIP document, IBR procedures and “Identification of plan” format are discussed in further detail in the May 22, 1997, Federal Register document. On January 25, 2005 (70 FR 9450), the EPA published a Federal Register document beginning the new IBR procedure for Idaho. On December 28, 2012 (77 FR 76417), the EPA published an update to the IBR material for Idaho.

Since the publication of the last IBR update, the EPA approved into the Idaho SIP the following regulatory changes: ¹

¹ See 78 FR 16790 (March 19, 2013), 78 FR 20001 (April 3, 2013), 79 FR 11711 (March 3, 2014), 79 FR 16201 (March 25, 2014), and 79 FR 23273 (April 28, 2014).

A. Added Regulations

1. IDAPA 58.01.01 (Rules for the Control of Air pollution in Idaho): section 624.

2. City and County Ordinances: City of Sandpoint Chapter 8 Air Quality (4-8-1 through 4-8-14), City of Clifton Ordinance No. 120, City of Dayton Ordinance #287, Franklin City Ordinance No. 2012-9-12, Franklin County Ordinance No. 2012-6-25, City of Oxford Memorandum of Understanding, City of Preston Ordinance No. 2012-1, City of Weston Ordinance No. 2012-01.

3. EPA-Approved Idaho Source-Specific Requirements: The Amalgamated Sugar Company LLC—Nampa Factory, Nampa, Idaho (Permit No. T2-2009.0105, date issued 12/23/2011).

B. Revised Regulations

IDAPA 58.01.01 (Rules for the Control of Air pollution in Idaho): sections 006, 107, 220, 222, 617, 618, 620, 622 and 623.

C. Removed Regulations

1. City and County Ordinances: City of Sandpoint Ordinance No. 965 (2/21/1995 City adoption date).

2. EPA-Approved Idaho Source-Specific Requirements: Louisiana Pacific Corporation, Sandpoint, Idaho (State effective date 10/31/2001), The Amalgamated Sugar Company LLC—Nampa Factory, Nampa, Idaho (Permit No. T2-2009.0105, date issued 9/7/2010).

II. EPA Action

In this action, the EPA is announcing the update to the IBR material as of January 15, 2015. The EPA is also correcting typographical errors, including omission and capitalization errors in subsection 52.670(c), table entries 006, 124, and 220. The EPA is also reformatting dates (i.e., month, day and year) and correcting punctuation to display a consistent format throughout the tables in 52.670(c) and (d).

The EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by removing outdated citations and incorrect table entries.

III. Statutory and Executive Order Reviews

Under the Clean Air Act (CAA), the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves State law as meeting Federal requirements and does not impose additional requirements beyond those imposed by State law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

In addition, the SIP is not approved to apply on any Indian reservation land or in any other area where the EPA or an Indian Tribe has demonstrated that a Tribe has jurisdiction. In those areas of Indian country, the rule does not have Tribal implications as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

The EPA has also determined that the provisions of section 307(b)(1) of the CAA pertaining to petitions for judicial review are not applicable to this action. Prior EPA rulemaking actions for each individual component of the Idaho SIP compilations had previously afforded interested parties the opportunity to file a petition for judicial review in the United States Court of Appeals for the appropriate circuit within 60 days of such rulemaking action. Thus, the EPA sees no need in this action to reopen the 60-day period for filing such petitions for judicial review for this “Identification of plan” update action for Idaho.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: January 27, 2015.
Dennis J. McLerran,
Regional Administrator, Region 10.

40 CFR part 52 is amended as follows:

PART 52—APPROVAL AND PROMULGATION OF IMPLEMENTATION PLANS

1. The authority citation for part 52 continues to read as follows:

Authority: 42 U.S.C. 7401 et seq.

Subpart N—Idaho

2. Section 52.670 is amended by:

a. Revising paragraph (b).

b. Revising paragraph (c).

c. Revising paragraph (d).

The revisions read as follows:

§ 52.670 Identification of plan.

* * * * *

(b) Incorporation by reference.

(1) Material listed as incorporated by reference in paragraphs (c) and (d) was approved for incorporation by reference by the Director of the Federal Register in accordance with 5 U.S.C. 552(a) and 1 CFR part 51. The material incorporated is as it exists on the date of the approval, and notice of any change in the material will be published in the Federal Register. Entries in paragraphs (c) and (d) of this section with EPA approval dates on or after January 15, 2015, will be incorporated by reference in the next update to the SIP compilation.

(2)(i) EPA Region 10 certifies that the rules and regulations provided by EPA at the addresses in paragraph (b)(3) of this section are an exact duplicate of the officially promulgated State rules and regulations which have been approved as part of the State implementation plan as of January 15, 2015.

(ii) EPA Region 10 certifies that the source-specific requirements provided by EPA at the addresses in paragraph (b)(3) of this section are an exact duplicate of the officially promulgated source-specific requirements which have been approved in the notebook “40 CFR 52.670(d)—Source Specific Requirements” as part of the State implementation plan as of January 15, 2015.

(3) Copies of the materials incorporated by reference may be inspected at the EPA Region 10 Office of Air, Waste, and Toxics (AWT-150), 1200 Sixth Avenue, Seattle, Washington 98101; or at the National Archives and Records Administration (NARA). For information on the availability of this material at NARA, call 202-741-6030, or go to: http://www.archives.gov/federal_register/code_of_federal_regulations/ibr_locations.html.

(c) EPA approved regulations.

EPA Approved Idaho Regulations and Statutes
State citation | Title/subject | State effective date | EPA approval date | Explanations
Idaho Administrative Procedures Act (IDAPA) 58.01.01—Rules for the Control of Air Pollution in Idaho
001 | Title and Scope | 5/1/1994 | 1/16/2003, 68 FR 2217
004 | Catchlines | 5/1/1994 | 1/16/2003, 68 FR 2217
005 | Definitions | 5/1/1994 | 1/16/2003, 68 FR 2217
006 | General Definitions | 4/4/2013, 3/30/2007, 4/11/2006, 7/1/2002, 4/5/2000, 3/20/1997, 5/1/1994 | 3/3/2014, 79 FR 11711. | Except Section 006.49, 006.50, 006.51, 006.66, 006.67, and 006.68(b), 006.114, and 006.116.
007 | Definitions for the Purposes of Sections 200 through 225 and 400 through 461 | 3/30/2007, 4/11/2006, 4/5/2000, 6/30/1995, 5/1/1995, 5/1/1994 | 6/9/2011, 76 FR 33647
106 | Abbreviations | 5/1/1994 | 1/16/2003, 68 FR 2217
107 | Incorporations by Reference | 4/4/2013, 10/6/2010, 5/8/2009, 3/30/2007, 3/20/2004, 7/1/1997, 5/1/1994 | 3/3/2014, 79 FR 11711. | Except Section 107.03(f) through (m), and with respect to 107.03(c), its incorporation by reference of 40 CFR 52.21(i)(5)(i)(c), (k)(2), and the second sentence of (b)(49)(ii)(a).
121 | Compliance Requirements by Department | 5/1/1994 | 1/16/2003, 68 FR 2217
122 | Information Orders by the Department | 4/5/2000, 5/1/1994 | 1/16/2003, 68 FR 2217
123 | Certification of Documents | 5/1/1994 | 1/16/2003, 68 FR 2217
124 | Truth, Accuracy and Completeness of Documents | 5/1/1994 | 1/16/2003, 68 FR 2217
125 | False Statements | 3/23/1998 | 1/16/2003, 68 FR 2217
126 | Tampering | 3/23/1998 | 1/16/2003, 68 FR 2217
127 | Format of Responses | 5/1/1994 | 1/16/2003, 68 FR 2217
130 | Startup, Shutdown, Scheduled Maintenance, Safety Measures, Upset and Breakdown | 4/5/2000 | 1/16/2003, 68 FR 2217
131 | Excess Emissions | 4/5/2000 | 1/16/2003, 68 FR 2217
132 | Correction of Condition | 4/5/2000 | 1/16/2003, 68 FR 2217
133 | Start-up, Shutdown and Scheduled Maintenance Requirements | 4/11/2006, 4/5/2000, 3/20/1997 | 11/26/2010, 75 FR 72719
134 | Upset, Breakdown and Safety Requirements | 4/11/2006, 4/5/2000, 3/20/1997 | 11/26/2010, 75 FR 72719
135 | Excess Emission Reports | 4/11/2006, 4/5/2000, 3/20/1997 | 11/26/2010, 75 FR 72719
136 | Excess Emission Records | 4/5/2000, 3/23/1998, 3/20/1997 | 1/16/2003, 68 FR 2217
155 | Circumvention | 4/11/2006 | 11/26/2010, 75 FR 72719
156 | Total Compliance | 5/1/1994 | 1/16/2003, 68 FR 2217
157 | Test Methods and Procedures | 4/5/2000 | 1/16/2003, 68 FR 2217
160 | Provisions Governing Specific Activities and Conditions | 4/5/2000 | 1/16/2003, 68 FR 2217
162 | Modifying Physical Conditions | 5/1/1994 | 1/16/2003, 68 FR 2217
163 | Source Density | 5/1/1994 | 1/16/2003, 68 FR 2217
164 | Polychlorinated Biphenyls (PCBs) | 5/1/1994 | 1/16/2003, 68 FR 2217
200 | Procedures and Requirements for Permits to Construct | 4/2/2008 | 11/26/2010, 75 FR 72719
201 | Permit to Construct Required | 7/1/2002 | 11/26/2010, 75 FR 72719
202 | Application Procedures | 4/6/2005, 7/1/2002, 4/5/2000, 5/1/1994 | 11/26/2010, 75 FR 72719
203 | Permit Requirements for New and Modified Stationary Sources | 5/1/1994 | 1/16/2003, 68 FR 2217 | (Except subsection 203.03).
204 | Permit Requirements for New Major Facilities or Major Modifications in Nonattainment Areas | 4/2/2008, 3/30/2007, 4/6/2005, 4/5/2000, 5/1/1994 | 11/26/2010, 75 FR 72719
205 | Permit Requirements for New Major Facilities or Major Modifications in Attainment or Unclassifiable Areas | 4/2/2008, 3/30/2007, 4/6/2005 | 11/26/2010, 75 FR 72719
206 | Optional Offsets for Permits to Construct | 4/6/2005 | 11/26/2010, 75 FR 72719
207 | Requirements for Emission Reduction Credit | 5/1/1994 | 1/16/2003, 68 FR 2217
208 | Demonstration of Net Air Quality Benefit | 4/5/2000, 5/1/1994 | 1/16/2003, 68 FR 2217
209 | Procedures for Issuing Permits | 4/11/2006, 4/6/2005, 5/3/2003, 7/1/2002, 4/5/2000, 3/19/1999, 3/23/1998, 5/1/1994 | 11/26/2010, 75 FR 72719
211 | Conditions for Permits to Construct | 5/1/1994 | 1/16/2003, 68 FR 2217
212 | Obligation to Comply | 5/1/1994 | 1/16/2003, 68 FR 2217
213 | Pre-Permit Construction | 4/11/2006, 5/3/2003, 4/5/2000, 3/23/1998 | 11/26/2010, 75 FR 72719
220 | General Exemption Criteria for Permit to Construct Exemptions | 4/4/2013, 4/5/2000 | 3/3/2014, 79 FR 11711
221 | Category I Exemption | 4/5/2000 | 1/16/2003, 68 FR 2217
222 | Category II Exemption | 4/4/2013, 4/11/2006, 4/5/2000, 5/1/1994, 7/1/1997 | 3/3/2014, 79 FR 11711
400 | Procedures and Requirements for Tier II Operating Permits | 7/1/2002 | 11/26/2010, 75 FR 72719
401 | Tier II Operating Permit | 4/6/2005, 7/1/2002, 4/5/2000, 5/1/1994 | 11/26/2010, 75 FR 72719 | Except 401.01.a (bubbles) and 401.04 (compliance date extension).
402 | Application Procedures | 7/1/2002, 5/1/1994, 4/5/2000, 7/1/2002 | 11/26/2010, 75 FR 72719
403 | Permit Requirements for Tier II Sources | 5/1/1994 | 1/16/2003, 68 FR 2217
404 | Procedure for Issuing Permits | 4/11/2006, 4/5/2000, 5/1/1994, 7/1/2002 | 11/26/2010, 75 FR 72719
405 | Conditions for Tier II Operating Permits | 5/1/1994 | 1/16/2003, 68 FR 2217
406 | Obligation to Comply | 5/1/1994 | 1/16/2003, 68 FR 2217
460 | Requirements for Emission Reduction Credits | 4/11/2006, 4/5/2000, 5/1/1994 | 11/26/2010, 75 FR 72719
461 | Requirements for Banking Emission Reduction Credits (ERC's) | 4/5/2000, 5/1/1994 | 1/16/2003, 68 FR 2217
500 | Registration Procedures and Requirements for Portable Equipment | 5/1/1994 | 1/16/2003, 68 FR 2217
510 | Stack Heights and Dispersion Techniques | 5/1/1994 | 1/16/2003, 68 FR 2217
511 | Applicability | 4/11/2006 | 11/26/2010, 75 FR 72719
512 | Definitions | 4/11/2006, 5/1/1994, 4/5/2000 | 11/26/2010, 75 FR 72719
513 | Requirements | 4/11/2006 | 11/26/2010, 75 FR 72719
514 | Opportunity for Public Hearing | 5/1/1994 | 1/16/2003, 68 FR 2217
515 | Approval of Field Studies and Fluid Models | 5/1/1994 | 1/16/2003, 68 FR 2217
516 | No Restriction on Actual Stack Height | 5/1/1994 | 1/16/2003, 68 FR 2217
550 | Air Pollution Emergency Rule | 5/1/1994 | 1/16/2003, 68 FR 2217
551 | Episode Criteria | 5/1/1994 | 1/16/2003, 68 FR 2217
552 | Stages | 3/15/2002, 5/1/1994 | 1/16/2003, 68 FR 2217
553 | Effect of Stages | 3/15/2002 | 1/16/2003, 68 FR 2217
556 | Criteria for Defining Levels Within Stages | 3/15/2002, 4/5/2000 | 1/16/2003, 68 FR 2217
557 | Public Notification | 5/1/1994 | 1/16/2003, 68 FR 2217
558 | Information To Be Given | 3/15/2002, 5/1/1994 | 1/16/2003, 68 FR 2217
559 | Manner and Frequency of Notification | 5/1/1994 | 1/16/2003, 68 FR 2217
560 | Notification to Sources | 4/11/2006 | 11/26/2010, 75 FR 72719
561 | General Rules | 4/11/2006, 5/1/1994, 3/15/2002 | 11/26/2010, 75 FR 72719
562 | Specific Emergency Episode Abatement Plans for Point Sources | 5/1/1994 | 1/16/2003, 68 FR 2217
563 | Transportation Conformity | 3/30/2001 | 4/12/2001, 66 FR 18873
564 | Incorporation by Reference | 3/30/2001 | 4/12/2001, 66 FR 18873
565 | Abbreviations | 3/30/2001 | 4/12/2001, 66 FR 18873
566 | Definitions for the Purpose of Sections 563 Through 574 and 582 | 3/30/2001 | 4/12/2001, 66 FR 18873
567 | Agencies Affected by Consultation | 3/30/2001 | 4/12/2001, 66 FR 18873
568 | ICC Member Roles in Consultation | 3/30/2001 | 4/12/2001, 66 FR 18873
569 | ICC Member Responsibilities in Consultation | 3/30/2001 | 4/12/2001, 66 FR 18873
570 | General Consultation Process | 3/30/2001 | 4/12/2001, 66 FR 18873
571 | Consultation Procedures | 3/30/2001 | 4/12/2001, 66 FR 18873
572 | Final Conformity Determinations by USDOT | 3/30/2001 | 4/12/2001, 66 FR 18873
573 | Resolving Conflicts | 3/30/2001 | 4/12/2001, 66 FR 18873
574 | Public Consultation Procedures | 3/30/2001 | 4/12/2001, 66 FR 18873
575 | Air Quality Standards and Area Classification | 4/11/2006 | 11/26/2010, 75 FR 72719
576 | General Provisions for Ambient Air Quality Standards | 5/1/1994 | 1/16/2003, 68 FR 2217
578 | Designation of Attainment, Unclassifiable, and Nonattainment Areas | 5/1/1994 | 1/16/2003, 68 FR 2217
579 | Baselines for Prevention of Significant Deterioration | 4/5/2000, 5/1/1994 | 1/16/2003, 68 FR 2217
580 | Classification of Prevention of Significant Deterioration Areas | 4/5/2000, 5/1/1994 | 1/16/2003, 68 FR 2217
581 | Prevention of Significant Deterioration (PSD) Increments | 10/6/2010,4/11/2006, 7/1/1997, 5/1/1994 | 7/17/2012, 77 FR 41916
582 | Interim Conformity Provisions for Northern Ada County Former Nonattainment Area for PM-10 | 3/30/2001 | 4/12/2001, 66 FR 18873
600 | Rules for Control of Open Burning | 4/2/2008 | 8/1/2008, 73 FR 44915 | Previous EPA Approval Date of 7/11/2005 removed in response to 9th Circuit remand.
601 | Fire Permits, Hazardous Materials and Liability | 4/2/2008 | 8/1/2008, 73 FR 44915 | Previous EPA Approval Date of 7/11/2005 removed in response to 9th Circuit remand.
602 | Nonpreemption of Other Jurisdictions | 4/2/2008 | 8/1/2008, 73 FR 44915 | Previous EPA Approval Date of 7/11/2005 removed in response to 9th Circuit remand.
603 | General Restrictions | 4/2/2008,3/21/2003, 5/1/1994 | 8/1/2008, 73 FR 44915 | Previous EPA Approval Date of 7/11/2005 removed in response to 9th Circuit remand.
606 | Categories of Allowable Burning | 4/2/2008 | 8/1/2008, 73 FR 44915 | Previous EPA Approval Date of 7/11/2005 removed in response to 9th Circuit remand.
607 | Recreational and Warming Fires | 3/21/2003 | 8/1/2008, 73 FR 44915 | Previous EPA Approval Date of 7/11/2005 removed in response to 9th Circuit remand.
608 | Weed Control Fires | 5/1/1994 | 8/1/2008, 73 FR 44915 | Previous EPA Approval Date of 7/11/2005 removed in response to 9th Circuit remand.
609 | Training Fires | 3/21/2003 | 8/1/2008, 73 FR 44915 | Previous EPA Approval Date of 7/11/2005 removed in response to 9th Circuit remand.
610 | Industrial Flares | 3/21/2003 | 8/1/2008, 73 FR 44915 | Previous EPA Approval Date of 7/11/2005 removed in response to 9th Circuit remand.
611 | Residential Solid Waste Disposal Fires | 5/1/1994 | 1/16/2003, 68 FR 2217
612 | Landfill Disposal Site Fires | 3/21/2003 | 8/1/2008, 73 FR 44915 | Previous EPA Approval Date of 7/11/2005 removed in response to 9th Circuit remand.
613 | Orchard Fires | 3/21/2003, 5/1/1994 | 8/1/2008, 73 FR 44915 | Previous EPA Approval Date of 7/11/2005 removed in response to 9th Circuit remand.
614 | Prescribed Burning | 5/1/1994 | 1/16/2003, 68 FR 2217
615 | Dangerous Material Fires | 3/21/2003 | 8/1/2008, 73 FR 44915 | Previous EPA Approval Date of 7/11/2005 removed in response to 9th Circuit remand.
616 | Infectious Waste Burning | 3/21/2003 | 8/1/2008, 73 FR 44915 | Previous EPA Approval Date of 7/11/2005 removed in response to 9th Circuit remand.
617 | Crop Residue | 7/1/2011, 4/2/2008 | 3/19/2013, 78 FR 16790
618 | Permit By Rule | 7/1/2011, 4/2/2008 | 3/19/2013, 78 FR 16790
619 | Registration for Permit By Rule | 4/2/2008 | 8/1/2008, 73 FR 44915
620 | Registration Fee | 7/1/2011, 4/2/2008 | 3/19/2013, 78 FR 16790
621 | Burn Determination | 4/2/2008 | 8/1/2008, 73 FR 44915
622 | General Provisions | 7/1/2011, 4/2/2008 | 3/19/2013, 78 FR 16790
623 | Public Notification | 7/1/2011, 4/2/2008 | 3/19/2013, 78 FR 16790
624 | Spot Burn, Baled Agricultural Residue Burn, and Propane Flaming Permits | 7/1/2011 | 3/19/2013, 78 FR 16790
625 | Visible Emissions | 4/2/2008 | 8/1/2008, 73 FR 44915
626 | General Restrictions on Visible Emissions from Wigwam Burners | 4/5/2000 | 1/16/2003, 68 FR 2217
650 | Rules for Control of Fugitive Dust | 5/1/1994 | 1/16/2003, 68 FR 2217
651 | General Rules | 3/30/2007, 5/1/1994 | 6/9/2011, 76 FR 33647
665 | Regional Haze Rules | 3/30/2007 | 6/9/2011, 76 FR 33647
666 | Reasonable Progress Goals | 3/30/2007 | 6/9/2011, 76 FR 33647
667 | Long-Term Strategy for Regional Haze | 3/30/2007 | 6/9/2011, 76 FR 33647
668 | BART Requirement for Regional Haze | 3/30/2007 | 6/9/2011, 76 FR 33647
675 | Fuel Burning Equipment—Particulate Matter | 4/5/2000 | 1/16/2003, 68 FR 2217
676 | Standards for New Sources | 5/1/1994 | 1/16/2003, 68 FR 2217
677 | Standards for Minor and Existing Sources | 5/1/1994 | 1/16/2003, 68 FR 2217
678 | Combinations of Fuels | 5/1/1994 | 1/16/2003, 68 FR 2217
679 | Averaging Period | 4/11/2006, 5/1/1994 | 11/26/2010, 75 FR 72719
680 | Altitude Correction | 5/1/1994 | 1/16/2003, 68 FR 2217
681 | Test Methods and Procedures | 4/5/2000 | 1/16/2003, 68 FR 2217
700 | Particulate Matter Process Weight Limitations | 5/3/2003, 4/5/2000 | 11/26/2010, 75 FR 72719
701 | Particulate Matter—New Equipment Process Weight Limitations | 4/5/2000 | 1/16/2003, 68 FR 2217
702 | Particulate Matter—Existing Equipment Process Weight Limitations | 4/5/2000, 5/1/1994 | 1/16/2003, 68 FR 2217
703 | Particulate Matter—Other Processes | 4/5/2000 | 1/16/2003, 68 FR 2217
725 | Rules for Sulfur Content of Fuels | 5/8/2009, 5/1/1994 | 11/26/2010, 75 FR 72719
785 | Rules for Control of Incinerators | 5/1/1994 | 1/16/2003, 68 FR 2217
786 | Emission Limits | 4/5/2000 | 1/16/2003, 68 FR 2217
787 | Exceptions | 3/23/1998 | 1/16/2003, 68 FR 2217
805 | Rules for Control of Hot-mix Asphalt Plants | 5/1/1994 | 1/16/2003, 68 FR 2217
806 | Emission Limits | 5/1/1994 | 1/16/2003, 68 FR 2217
807 | Multiple Stacks | 5/1/1994 | 1/16/2003, 68 FR 2217
808 | Fugitive Dust Control | 5/1/1994 | 1/16/2003, 68 FR 2217
815 | Rules for Control of Kraft Pulping Mills | 5/1/1994 | 1/16/2003, 68 FR 2217
816 | Statement of Policy | 5/1/1994 | 1/16/2003, 68 FR 2217
817 | General Rules | 5/1/1994 | 1/16/2003, 68 FR 2217
821 | Recovery Furnace Particulate Standards | 5/1/1994 | 1/16/2003, 68 FR 2217
822 | Lime Kiln Standards | 5/1/1994 | 1/16/2003, 68 FR 2217
823 | Smelt Tank Standards | 5/1/1994 | 1/16/2003, 68 FR 2217
824 | Monitoring and Reporting | 4/5/2000, 5/1/1994 | 1/16/2003, 68 FR 2217 | (Except subsection 824.01).
825 | Special Studies | 5/1/1994 | 1/16/2003, 68 FR 2217
826 | Exceptions | 5/1/1994 | 1/16/2003, 68 FR 2217
845 | Rules for Control of Sulfur Oxide Emissions from Sulfuric Acid Plants | 5/1/1994 | 1/16/2003, 68 FR 2217
846 | Emission Limits | 4/5/2000 | 1/16/2003, 68 FR 2217
847 | Monitoring and Testing | 4/5/2000 | 1/16/2003, 68 FR 2217
848 | Compliance Schedule | 5/1/1994 | 1/16/2003, 68 FR 2217
City and County Ordinances
City of Sandpoint Ordinance No. 939 | Material Specifications for Street Sanding Material | 2/22/1994 (City adoption date) | 6/26/2002, 67 FR 43006 | Sandpoint PM10 Nonattainment Area Plan.
City of Sandpoint Chapter 8 Air Quality (4-8-1 through 4-8-14) | Solid Fuel Heating Appliances | 9/21/2011 (City adoption date) | 4/3/2013, 78 FR 20001 | Codified version of City of Sandpoint Ordinance No. 965 as amended by Ordinance No. 1237 and Ordinance No. 1258. Sandpoint PM10 Limited Maintenance Plan.
Ada County Ordinance | The 1999 Motor Vehicle Emissions Control Ordinance | 6/15/1999 (County approval date) | 10/28/2002, 67 FR 65713 | Northern Ada County CO Maintenance Plan.
City of Boise Ordinance | The 1999 Motor Vehicle Emissions Control Ordinance | 7/20/1999 (City approval date) | 10/28/2002, 67 FR 65713 | Northern Ada County CO Maintenance Plan.
City of Eagle Ordinance | The 1999 Motor Vehicle Emissions Control Ordinance | 4/27/1999 (City approval date) | 10/28/2002, 67 FR 65713 | Northern Ada County CO Maintenance Plan.
City of Garden City Ordinance | The 1991 Vehicle Emission Control Ordinance | 8/13/1996 (Most recently amended) | 10/28/2002, 67 FR 65713 | Northern Ada County CO Maintenance Plan.
City of Meridian Ordinance | The 1999 Motor Vehicle Emissions Control Ordinance | 6/1/1999 (City approval date) | 10/28/2002, 67 FR 65713 | Northern Ada County CO Maintenance Plan.
Boise City Ordinance 4432 | Parking Permits | 8/13/1979 (City approval date) | 6/6/1985, 50 FR 23810 | Transportation Control Plan for carbon monoxide, Ada County.
City of Garden City Ordinance 514, 533, and 624 | Solid Fuel Heating Appliance Ordinance of the City of Garden City, Idaho | 5/14/1987, 1/10/1989, 9/13/1994 (City approval dates) | 5/30/1996, 61 FR 27019 | Northern Ada County PM10 Nonattainment Area Plan.
Meridian Ordinance 667 | Meridian Clean Air Ordinance | 8/16/1994 (City approval date) | 5/30/1996, 61 FR 27019 | Northern Ada County PM10 Nonattainment Area Plan.
City of Eagle Ordinance 245 | City of Eagle Clean Air Ordinance | 4/26/1994 (City approval date) | 5/30/1996, 61 FR 27019 | Northern Ada County PM10 Nonattainment Area Plan.
Ada County Ordinance 254 | Ada County Clean Air Ordinance | 11/3/1992 (County adoption date) | 5/30/1996, 61 FR 27019 | Northern Ada County PM10 Nonattainment Area Plan.
Table: Ordinance-1 | Explanation of enforcement procedures, responsibilities and sources of funding for the Northern Ada County Wood Burning Control Ordinances | 12/30/1994 (date of table) | 5/30/1996, 61 FR 27019 | Northern Ada County PM10 Nonattainment Area Plan.
City of Pocatello Ordinance 2450 | Residential wood combustion curtailment ordinance | 1/12/1994 | 7/13/2006, 71 FR 39574 | (Portneuf Valley Nonattainment Area Plan and Maintenance Plan).
City of Pocatello Ordinance 2726 | Revised air quality curtailment levels | 9/18/2003 | 7/13/2006, 71 FR 39574 | (Portneuf Valley Nonattainment Area Plan and Maintenance Plan).
City of Chubbuck Ordinance 403 | Residential wood combustion curtailment ordinance | 11/23/1993 | 7/13/2006, 71 FR 39574 | (Portneuf Valley Nonattainment Area Plan and Maintenance Plan).
City of Chubbuck Ordinance 582 | Revised air quality curtailment levels | 12/9/2003 | 7/13/2006, 71 FR 39574 | (Portneuf Valley Nonattainment Area Plan and Maintenance Plan).
City of Clifton Ordinance No. 120 | Ordinance No. 120 | 8/11/2012 | 3/25/2014, 79 FR 16201 | Except Section 9 (Penalty).
City of Dayton Ordinance #287 | Ordinance #287 | 8/8/2012 | 3/25/2014, 79 FR 16201 | Except Section 9 (Penalty).
Franklin City Ordinance No. 2012-9-12 | Solid Fuel Heating Appliances | 9/12/2012 | 3/25/2014, 79 FR 16201 | Except Section 9 (Penalty).
Franklin County Ordinance No. 2012-6-25 | Solid Fuel Heating Appliances | 6/25/2012 | 3/25/2014, 79 FR 16201 | Except Section 9 (Penalty).
City of Oxford Memorandum of Understanding | Solid Fuel Heating Appliances | 10/22/2012 | 3/25/2014, 79 FR 16201 | Except #2 of the MOA and Section 9 of Exhibit A.
City of Preston Ordinance No. 2012-1 | Ordinance No. 2012-1 | 6/11/2012 | 3/25/2014, 79 FR 16201 | Except Section 9 (Penalty).
City of Weston Ordinance No. 2012-01 | Ordinance No. 2012-01 | 8/1/2012 | 3/25/2014, 79 FR 16201 | Except Section 9 (Penalty).
State Statutes
Section 1 of House Bill 557, codified at Idaho Code section 39-114 | Open Burning of Crop Residue | 3/7/2008 | 8/1/2008, 73 FR 44915

(d) EPA approved State Source-specific requirements.

EPA Approved Idaho Source-Specific Requirements ¹
Name of source | Permit No. | State effective date | EPA approval date | Explanation
LP Wood Polymers, Inc., Meridian, Idaho | 001-00115 | 7/12/2002 | 10/27/2003, 68 FR 61106 | The following conditions: 1.1, 1.3, 3.1, and the Appendix. (Boise/Ada County Maintenance Plan).
Consolidated Concrete Company, Boise, Idaho | 001-00046 | 12/3/2001 | 10/27/2003, 68 FR 61106 | The following conditions: 1.1, 1.3, 2.3, 3.1, 3.2, and the Appendix. (Boise/Ada County Maintenance Plan).
Crookham Company, Caldwell, Idaho | 027-00020 | 1/18/2002 | 10/27/2003, 68 FR 61106 | The following conditions: 1.1, 1.3, 2.1, 2.3, 3.1, 3.1.1, 3.1.2, 3.2, and the Appendix. (Boise/Ada County Maintenance Plan).
Double D Service Center, Meridian, Idaho | 001-00168 | 2/4/2002 | 10/27/2003, 68 FR 61106 | The following conditions: 1.1, 1.3, 3.1, 3.2.1, 3.2.2, 3.2.3, and the Appendix. (Boise/Ada County Maintenance Plan).
Plum Creek Northwest Lumber, Inc., Meridian, Idaho | 001-00091 | 7/12/2002 | 10/27/2003, 68 FR 61106 | The following conditions: 1.1, 1.3, 2.1.2, 3.1, and the Appendix. (Boise/Ada County Maintenance Plan).
C. Wright Construction, Inc., Meridian, Idaho | T2-000033 | 7/8/2003 | 10/27/2003, 68 FR 61106 | The following conditions: 2 (heading only), 2.5, (2.12, Table 2.2 as it applies to PM10), 2.14, 3 (heading only), 3.3, Table 3.2, 3.4, 3.5, 3.6, 3.7, 3.8, 3.10, 4 (heading only), 4.2, 4.3, 4.4, 4.7, 5, and Table 5.1. (Boise/Ada County Maintenance Plan).
Nelson Construction Co., Boise, Idaho | T2-020029 | 7/21/2003 | 10/27/2003, 68 FR 61106 | The following conditions: 2 (heading only), 2.12, 2.14, 3 (heading only), 3.3, 3.4, 3.6, 3.7, 3.9, 3.10, 3.11, 3.12, 4 (heading only), 4.3, 4.4, 4.5, 4.6, 5, and Table 5.1. (Boise/Ada County Maintenance Plan).
Mike's Sand and Gravel, Nampa, Idaho | 001-00184 | 7/12/2002 | 10/27/2003, 68 FR 61106 | The following conditions: 1.1, 1.3, 2.2.1, 3.1, and the Appendix. (Boise/Ada County Maintenance Plan).
Idaho Concrete Co., Eagle, Idaho | T2-020031 | 7/8/2003 | 10/27/2003, 68 FR 61106 | The following conditions: 2 (heading only), 2.5, 2.13, 3 (heading only), 3.3, 3.4, 3.6, 3.7, 3.8, 4 (heading only), and Table 4.1. (Boise/Ada County Maintenance Plan).
Idaho Concrete Co., Eagle, Idaho | T2-020032 | 7/8/2003 | 10/27/2003, 68 FR 61106 | The following conditions: 2 (heading only), 2.5, 2.13, 3 (heading only), 3.3, 3.4, 3.6, 3.7, 3.8, 4 (heading only), and Table 4.1. (Boise/Ada County Maintenance Plan).
Idaho Concrete Co. Eagle, Idaho | T2-020033 | 7/8/2003 | 10/27/2003, 68 FR 61106 | The following conditions: 2 (heading only), 2.5, 2.13, 3 (heading only), 3.3, 3.4, 3.6, 3.7, 3.8, 4 (heading only), and Table 4.1. (Boise/Ada County Maintenance Plan).
The Amalgamated Sugar Company LLC, Nampa, Idaho | 027-00010 | 9/30/2002 | 10/27/2003, 68 FR 61106 and 11/1/2004, 69 FR 63324 | The following conditions: 2 (heading only), (2.7, Table 2.2 as it applies to PM10,) 2.10, 2.10.1, 2.10.2, 2.11, 2.11.1, 2.11.2, 2.11.3, 2.11.4, 2.11.5, 2.12, 2.12.1, 2.12.2, 2.12.3, 2.13, 2.13.1, 2.13.2, 2.13.3, 2.14, 2.14.1, 2.14.2, 2.16, 3 (heading only), (3.3, Table 3.2 as it applies to PM10), 3.5, 3.7, 3.8, 3.8.1, 3.8.2, 3.8.3, 3.8.4, 3.8.5, 3.8.6, 3.8.7, 3.8.8, 3.9, 4 (heading only), (4.3, Table 4.1 as it applies to PM10), 4.5, 4.6, 4.7, 5 (heading only), (5.3, Table 5.3 as it applies to PM10), 5.5, 5.9, 5.9.1, 5.9.2, 5.9.3, 5.9.4, 5.9.5, 5.9.6, 5.9.7, 5.9.8, 5.9.9, 5.10, 5.11, 6 (heading only), 6.3, Table 6.1, 6.5, 6.6, 6.7, 6.7.1, 6.7.2, 6.8, 7 (heading only), 7.3, Table 7.1 as it applies to PM10, 7.5, 7.7, 7.7.1, 7.7.2, 7.8, 8 (heading only), 8.3, Table 8.1, 8.5, 8.7, 8.7.1, 8.7.2, 8.8, 9 (heading only), 9.3, Table 9.1, 9.5, 9.7, 9.7.1, 9.7.2, 9.8, 10 (heading only), 10.3, Table 10.1, 10.6, 10.8, 10.8.1, 10.8.2, 10.9, 11 (heading only), 11.3, Table 11.2, 11.6, 11.8, 11.8.1, 11.8.2, 11.9, 12 (heading only), 12.3, Table 12.1, 12.5, 12.7, 12.7.1, 12.7.2, 12.8, 13 (heading only), 13.1 (except as it applies to condition 13.3, 13.3.1, 13.3.2, 13.5, 13.5.1, 13.5.2, 13.5.3, 13.6, 13.6.1, 13.6.2 and 13.9), Table 13.1 (except conditions 13.3, 13.5 and 13.6), (13.2, Table 13.2 as it applies to PM10), 13.2.1, 13.4, 13.4.1, 13.4.2, 13.4.3, 13.7, 13.7.1, 13.7.2, 13.8, 13.8.1, 13.8.2, 13.8.3, 13.10, and 13.11. (Boise/Ada County PM10 Maintenance Plan).
Lake Pre-Mix, Sandpoint, Idaho | 777-00182 | 5/17/1996 | 6/26/2002, 67 FR 43006 | The following conditions for the cement silo vent: 1.1, 2.1.1, 2.1.2, 3.1.1, and 3.1.2. (Sandpoint nonattainment area plan).
Interstate Concrete and Asphalt, Sandpoint, Idaho | 017-00048 | 8/2/1999 | 6/26/2002, 67 FR 43006 | The following conditions: for the asphalt plant, 2.2, 3.1.1, 4.1, 4.1.1, 4.1.2, 4.2.1 (as it applies to the hourly PM10 emission limit in Appendix A), 4.2.2, 4.2.2.1, 4.2.2.2, and 4.2.2.3; for the concrete batch plant, 2.1, 3.1.1, 4.1, 4.1.1, and 4.1.2; Appendix A (as it applies to PM10 emission rates after 7/1/96) and Appendix B (as it applies after 7/1/96). (Sandpoint nonattainment area plan).
Whiteman Lumber Company, Cataldo, ID | 13-1420-062 | 7/16/1979 (date issued) | 7/28/1982, 47 FR 32530 | Silver Valley TSP Nonattainment Area Plan.
Potlatch Corporation, Pulp and Paper Unit, Lewiston, ID | 13-1140-0001-00 | 7/5/1979 (date issued) | 7/28/1982, 47 FR 32530 | Lewiston TSP Nonattainment Area Plan.
Potlatch Corporation, Clearwater Unit, Lewiston, ID | 13-1140-0003 | 7/5/1979 (date issued) | 7/28/1982, 47 FR 32530 | Lewiston TSP Nonattainment Area Plan.
Coast Trading Company, Inc., Lewiston, ID | 13-1140-0011 | 6/29/1979 (date issued) | 7/28/1982, 47 FR 32530 | Lewiston TSP Nonattainment Area Plan.
Lewis-Clark Terminal Association, Lewiston, ID | 13-1140-0010 | 6/29/1979 (date issued) | 7/28/1982, 47 FR 32530 | Lewiston TSP Nonattainment Area Plan.
Poe Asphalt, Lewiston, ID | 0880-0008 | 3/1/1976 (effective date) | 7/28/1982, 47 FR 32530 | Lewiston TSP Nonattainment Area Plan.
FMC Corporation, Pocatello, ID ² | 13-1260-0005 | 2/26/1980 (date issued) | 7/28/1982, 47 FR 32530 | Pocatello TSP Nonattainment Area Plan.
J.R. Simplot, Pocatello, ID | 13-1260-0006-00 | 3/4/1980 (date issued) | 7/28/1982, 47 FR 32530 | Pocatello TSP Nonattainment Area Plan.
Idaho Portland Cement Company, Inkom, ID | 13-0080-0004-00 | 7/18/1979 (date issued) | 7/28/1982, 47 FR 32530 | Pocatello TSP Nonattainment Area Plan.
J.R. Simplot Company, Conda, ID | 13-0420-0021-00 | 7/18/1979 (date issued) | 7/28/1982, 47 FR 32530 | Soda Springs TSP Nonattainment Area Plan.
Beker Industries, Conda, ID | 13-0420-0003-00 | 7/18/1979 (date issued) | 7/28/1982, 47 FR 32530 | Soda Springs TSP Nonattainment Area Plan.
Monsanto, Soda Springs, ID | 13-0420-0001-00 | 7/18/1979 (date issued) | 7/28/1982, 47 FR 32530 | Soda Springs TSP Nonattainment Area Plan.
Kerr McGee, Soda Springs, ID | 13-0420-0002-00 | 7/18/1979 (date issued) | 7/28/1982, 47 FR 32530 | Soda Springs TSP Nonattainment Area Plan.
J.R. Simplot, Pocatello, Idaho | Air Pollution Operating Permit No. T1-9507-114-1; Facility Number No. 077-00006 | 4/5/2004 | 7/13/2006, 71 FR 39574 | The following conditions: Cover page, facility identification information only, #300 Sulfuric Acid Plant, Permit Conditions 16.1, 16.10, 16.11, #400 Sulfuric Acid Plant, Permit Condition 17.1, 17.7, 17.10, 17.11, Phosphoric acid plant, Permit Condition 12.3, 12.13, Granulation No. 3 Process, Permit Condition 9.2.1, Granulation No. 3 stack, 9.17 (except 9.17.1 through 9.17.6), Reclaim Cooling Towers, Permit Condition 14.2, 14.6.1, Babcock & Wilcox Boiler, Permit Condition 6.4, 6.12, HPB&W Boiler, Permit Condition 5.3, 5.13 through 5.18, 5.21.
J.R. Simplot, Pocatello, Idaho | Compliance Agreement & Voluntary Order Idaho Code 39-116A | 4/16/2004 | 7/13/2006, 71 FR 39574 | The following conditions: No. 300 Sulfuric Acid Plant; Condition 8 and 9. No. 400 Sulfuric Acid Plant; Condition 10, 11, and 12. Granulation No. 1 Plant; Condition 14. Granulation No. 2 Plant; Condition 15. Compliance and Performance Testing; Condition 16.
The Amalgamated Sugar Company LLC—Nampa Factory, Nampa, Idaho | T2-2009.0105 | 12/23/2011 (date issued) | 4/28/2014, 79 FR 23273 | The following conditions: 1.2, including the table of Regulated Emission Point Sources Table, 3.2, 3.3 (first paragraph only), 3.4, 3.5, 3.6, 3.7, 3.8, 3.9, 3.11, 3.13, 3.14, 3.15, 3.16, and 4.1.
P4 Production, L.L.C., Soda Springs, Idaho | T2-2009.0109 | 11/17/2009 (date issued) | 6/22/2011, 76 FR 36329 | The following conditions: 1.2 (including Table 1.1), 2.3, 2.4, 2.5, 2.6, 2.7, and 2.8. (Regional Haze SIP Revision).
¹ EPA does not have the authority to remove these source-specific requirements in the absence of a demonstration that their removal would not interfere with attainment or maintenance of the NAAQS, violate any prevention of significant deterioration increment or result in visibility impairment. Idaho Department of Environmental Quality may request removal by submitting such a demonstration to EPA as a SIP revision.
² Only a small portion of this facility is located on State lands. The vast majority of the facility is located in Indian Country. It is EPA's position that unless EPA has explicitly approved a program as applying in Indian country, State or local regulations or permits are not effective within the boundaries of that Indian country land for purposes of complying with the CAA. 68 FR 2217, 2220 (January 16, 2003).

* * * * *

[FR Doc. 2015-07345 Filed 3-31-15; 8:45 am]

BILLING CODE 6560-50-P